DEPARTMENT OF HEALTH AND HUMAN SERVICES

National Institutes of Health

Center for Scientific Review; Amended Notice of Meeting

Notice is hereby given of a change in the meeting of the Center for Scientific Review Special Emphasis Panel, February 08, 2024, 10:00 a.m. to February 08, 2024, 07:00 p.m., National Institutes of Health, Rockledge II, 6701 Rockledge Drive, Bethesda, MD 20892, which was published in the Federal Register on January 19, 2024, FR Doc. No. 2024-00948, 89 FR 3675.

This meeting is being amended to change the SRO Contact from Dr. Velasco Cimica, Ph.D., to Dr. Marcus Ferrone, Ph.D., Center for Scientific Review, National Institutes of Health, 6701 Rockledge Drive, Bethesda, MD 20892. The meeting is closed to the public.

Dated: January 23, 2024.
Lauren A. Fleck,
Program Analyst, Office of Federal Advisory Committee Policy.

[FR Doc. 2024-01592 Filed 1-25-24; 8:45 am]

BILLING CODE 4140-01-P